Memorandum of September 9, 2005

Assignment of Functions with Respect to Loan Guarantees to Egypt

Memorandum for the Secretary of State

By the authority vested in me by the Constitution and laws of the United States, including section 301 of title 3 of the United States Code, I hereby assign to the Secretary of State the functions conferred upon the President relating to loan guarantees to Egypt in paragraph (2) under the heading “Economic Support Fund” in chapter 5 of title I of the Emergency Wartime Supplemental Appropriations Act, 2003 (Public Law 108-11).

You are authorized and directed to publish this memorandum in the Federal Register.

B

THE WHITE HOUSE,

Washington, September 9, 2005.

[FR Doc. 05-18740

Filed 9-16-05; 8:45 am]

Billing code 4710-10-P